DEPARTMENT OF THE INTERIOR

Bureau of Land Management

[UT-060-08-1430-EQ; UTU-81536]

Notice of Realty Action; Re-Issuance; Noncompetitive Lease of Public Land; Grand County, Utah

AGENCY: Bureau of Land Management, Interior.

ACTION: Notice of Realty Action; Re-issuance.

SUMMARY: This notice announces the re-issuance of the Notice of Realty Action published in the Federal Register on March 14, 2006 and cancelled by notice published on July 21, 2006.

DATES: Interested parties may submit comments to the BLM Acting Moab Field Manager, at the address below. Comments must be received by not later than June 23, 2008. Only written comments will be accepted.

ADDRESSES: Address all written comments concerning this notice to the BLM Acting Moab Field Manager, 82 East Dogwood Avenue, Moab, Utah 84532. Please send e-mail comments to the following address: momail@ut.blm.gov.

FOR FURTHER INFORMATION CONTACT: Mary von Koch, Realty Specialist, Moab Field Office, 435-259-2128.

SUPPLEMENTARY INFORMATION: The decision to cancel the Notice of Realty Action was based on the comments received during the 45-day comment period. Since July of 2006, all the impediments that led to the cancellation of the Notice of Realty Action have been removed. BLM has determined that the following 2,808.67 acres of isolated public lands in Grand County, Utah, are suitable for lease pursuant to Section 302 of the Federal Land Policy and Management Act of 1976 (FLPMA) (90 Stat. 2762; 43 U.S.C. 1732) using noncompetitive (direct) lease procedures.

Salt Lake Meridian

T. 20 S., R. 16 E.,

Sec. 25, S½;

Sec. 26, SW¼SW¼, E½SW¼, and SE¼;

Sec. 27, SE¼SE¼;

Sec. 28, E½SE¼;

Sec. 34, W½NW¼.

T. 21 S., R. 16 E.,

Sec. 1, lots 1, 4, 5, 8, 9, 11, 12, 13, and 16.

T. 21 S., R. 17 E.,

Sec. 4, lots 11, 12, 13, 14, N½SW¼, SW¼SW¼, and NW¼SE¼;

Sec. 5, E½SE¼;

Sec. 6, lots 2, 3, 4, 5, 7, and 10;

Sec. 7, lot 4, SE¼SW¼, and SE¼;

Sec. 8, NW¼SW¼, SE¼SW¼, and SE¼;

Sec. 9, N½N½, S½NE¼, SW¼NW¼, and S½

Green River Farms, a domestic corporation, has proposed to file with BLM an application to lease the above public lands, located near Green River, Utah. The lands would be used, occupied and developed as a commercial agricultural farm in conjunction with adjoining private lands owned by Green River Farms and lands leased to Green River Farms by the State of Utah School and Institutional Trust Lands Administration.

After review, the BLM has determined that the proposed use of the above described parcels is in conformance with the Grand Resource Area Resource Management Plan, and that the above described land is available for that use. Therefore, pursuant to section 302(b) of the Federal Land Policy and Management Act of 1976 (43 U.S.C. 1732(b)) and the implementing regulations at 43 CFR part 2920, the BLM will accept for processing an application to be filed by Green River Farms, or its duly qualified designee, for a non-competitive lease of the above described lands, to be used, occupied, and developed as stated above. A non-competitive lease may be employed in this case because all of the subject tracts of public land are adjacent to lands of the same proposed farming project. A detailed description of the negotiated, non-competitive process was provided in the original notice.

On or before June 23, 2008, interested parties may submit comments to the BLM at the address stated above with respect to:

(1) The decision of the BLM regarding the availability of the lands described herein and

(2) The decision of the BLM to accept for processing an application from Green River Farms for a non-competitive lease.

Facsimiles, telephone calls, and electronic mails are unacceptable means of notification. Comments including names and street addresses of respondents will be available for public review at the BLM Moab Field Office during regular business hours, except holidays. Individual respondents may request confidentiality. Before including your address, phone number, e-mail address, or other personal identifying information in your comment, you should be aware that your entire comment—including your personal identifying information—may be made publicly available at any time. While you can ask us in your comment to withhold your personal identifying information from public review, we cannot guarantee that we will be able to do so.

Any adverse comments will be reviewed by the BLM Utah State Director, who may sustain, vacate or modify this realty action. In the absence of any objections, or adverse comments, the proposed realty action will become the final determination of the Department of the Interior.

Authority: 43 CFR 2920.4.

Dated: April 30, 2008.
Selma Sierra,
State Director.

[FR Doc. E8-10051 Filed 5-6-08; 8:45 am]

BILLING CODE 4310-DQ-P